DEPARTMENT OF LABOR

Employment and Training Administration

[TA-W-54,636]

Wyoming Wood Products, Inc., West Wyoming, PA; Dismissal of Application for Reconsideration

Pursuant to 29 CFR 90.18(C) an application for administrative reconsideration was filed with the Director of the Division of Trade Adjustment Assistance for workers at Wyoming Wood Products, Inc., West Wyoming, Pennsylvania. The application contained no new substantial information which would bear importantly on the Department's determination. Therefore, dismissal of the application was issued.

TA-W-54, 636; Wyoming Wood Products, Inc., West Wyoming, Pennsylvania (August 4, 2004).

Signed at Washington, DC this 4th day of August, 2004.
Timothy Sullivan,
Director, Division of Trade Adjustment Assistance.

[FR Doc. 04-18322 Filed 8-10-04; 8:45 am]

BILLING CODE 4510-30-M